NATIONAL AERONAUTICS AND SPACE ADMINISTRATION

[Notice 04-072]

Notice of Prospective Patent License

AGENCY: National Aeronautics and Space Administration.

ACTION: Notice of prospective patent license.

SUMMARY: NASA hereby gives notice that PAC Materials, L.L.C., of Huntsville, Alabama, has applied for an exclusive license to practice the invention entitled “High-Strength Aluminum Alloy for High Temperature Applications,” in the People's Republic of China, PCT Foreign Application Serial No. PCT/US/03/10372, assigned to the United States of America as represented by the respective Administrator of the National Aeronautics and Space Administration. Written objections to the prospective grant of a license should be sent to James J. McGroary, Chief Patent Counsel/LS01, Marshall Space Flight Center, Huntsville, AL 35812. NASA has not yet made a determination to grant the requested license and may deny the requested license even if no objections are submitted within the comment period.

DATES: Responses to this notice must be received by June 22, 2004.

FOR FURTHER INFORMATION CONTACT: Sammy A. Nabors, Technology Transfer Department/CD30, Marshall Space Flight Center, Huntsville, AL 35812, (256) 544-5226.

Dated: May 27, 2004.
Keith T. Sefton,
Chief of Staff, Office of the General Counsel.

[FR Doc. 04-12719 Filed 6-4-04; 8:45 am]

BILLING CODE 7510-01-P